DEPARTMENT OF ENERGY

Federal Energy Regulatory Commission

[Docket No. EF00-3031-000, et al.]

Southwestern Power Administration, et al.; Electric Rate and Corporate Regulation Filings

September 6, 2000.

Take notice that the following filings have been made with the Commission:

1. Southeastern Power Administration

[Docket No. EF00-3031-000]

Take notice that on August 15, 2000 Southeastern Power Administration (Southeastern) filed for information, Rate Order No. SEPA-39 by the Deputy Secretary of the Department of Energy, that confirmed and approved Rate Schedules JW-1-F and JW-2-C for power from Southeastern's Jim Woodruff System. The approval extends through September 19, 2005.

The Deputy Secretary states that the Commission, by order issued November 15, 1995, in Docket No. EF95-3031-000, confirmed and approved Rate Schedules JW-1-E and JW-2-B.

Southeastern proposes in the instant filing to replace these rate schedules.

Comment date: September 26, 2000, in accordance with Standard Paragraph E at the end of this notice.

2. Western Area Power Administration

[Docket No. EF00-5191-000]

Take notice that on August 16, 2000, Western Area Power Administration filed for information, a copy of Rate Order No. WAPA-91 which extends the existing Pacific Northwest-Pacific Southwest Intertie Project firm point-to-point transmission service rates for the 500 kV transmission system. The rates, originally set forth in Rate Order No. WAPA-71, were approved for the period beginning February 1, 1996 and ending September 30, 2000.

The Deputy Secretary of Energy, in Delegation Order No. 0204-172, which became effective November 24, 1999, extended the existing rates through December 31, 2003.

Comment date: September 26, 2000, in accordance with Standard Paragraph E at the end of this notice.

3. Downtown Cogeneration Associates Limited Partnership

[Docket No. EG00-252-000]

Take notice that on August 31, 2000, Downtown Cogeneration Associates Limited Partnership (DCALP), with its address c/o Northeast Energy Services, Inc., 111 Speen Street, Framingham, MA 01701, filed with the Federal Energy Regulatory Commission (FERC or the Commission) an application for determination of exempt wholesale generator status pursuant to part 365 of the Commission's regulations.

DCALP is a Connecticut limited partnership that is engaged directly and exclusively in the business of owning and operating an eligible facility located in Hartford, Connecticut. The eligible facility consists of an approximately 4 MW dual-fueled cogeneration facility and related interconnection facilities. The output of the eligible facility is sold at wholesale to consumers located in the United States.

Comment date: September 27, 2000, in accordance with Standard Paragraph E at the end of this notice. The Commission will limit its consideration of comments to those that concern the adequacy or accuracy of the application.

4. Western Resources, Inc.

[Docket No. ER00-3563-000]

Take notice that on August 31, 2000, Western Resources, Inc., tendered for filing notice that effective October 30, 2000, Service Agreement No. 2 under Western Resources' Inc., FERC Electric Tariff, Original Volume No. 1 is to be terminated.

Notice of the proposed cancellation has been served upon the City of Fredonia, Kansas and the Kansas Corporation Commission.

Comment date: September 21, 2000, in accordance with Standard Paragraph E at the end of this notice.

5. Potomac Electric and Power Company

[Docket No. ER00-3564-000]

Take notice that on August 31, 2000, Potomac Electric Power Company (PEPCO), tendered for filing an executed netting agreement between PEPCO and Allegheny Energy Supply Company, LLC. (the Counterparty).

A copy of the filing was served upon the Counterparty.

Comment date: September 21, 2000, in accordance with Standard Paragraph E at the end of this notice.

6. Tucson Electric Power Company

[Docket No. ER00-3565-000]

Take notice that on August 31, 2000, Tucson Electric Power Company tendered for filing one (1) umbrella service agreement (for short-term firm service) and one (1) service agreement (for non-firm service) pursuant to Part II of Tucson's Open Access Transmission Tariff, which was filed in Docket No. ER00-771-000.

The details of the service agreement is as follows:

(1) Umbrella Agreement for Short-Term Firm Point-to-Point Transmission Service dated as of August 17, 2000 by and between Tucson Electric Power Company and British Columbia Power Exchange Corporation—FERC Electric Tariff Vol. No. 2, Service Agreement No. 132. No service has commenced at this time.

(2) Form of Service Agreement for Non-Firm Point-to-Point Transmission Service dated as August 17, 2000 by and between Tucson Electric Power Company and British Columbia Power Exchange Corporation—FERC Electric Tariff Vol. No. 2, Service Agreement No. 133. No service has commenced at this time.

Comment date: September 21, 2000, in accordance with Standard Paragraph E at the end of this notice.

7. Tucson Electric Power Company

[Docket No. ER00-3566-000]

Take notice that on August 31, 2000, Tucson Electric Power Company tendered for filing one (1) umbrella service agreement (for short-term firm service) pursuant to Part II of Tucson's Open Access Transmission Tariff, which was filed in Docket No. ER00-771-000.

The details of the service agreement is as follows:

(1) Umbrella Agreement for Short-Term Firm Point-to-Point Transmission Service dated as of August 21, 2000 by and between Tucson Electric Power Company The Cincinnati Gas & Electric Company, an Ohio corporation, PSI Energy, Inc., an Indiana corporation, (collectively Cinergy Operating Companies) and Cinergy Services, Inc., a Delaware corporation, as agent for and on behalf of the Cinergy Operating Companies—FERC Electric Tariff Vol. No. 2, Service Agreement No. 136. No service has commenced at this time.

Comment date: September 21, 2000, in accordance with Standard Paragraph E at the end of this notice.

8. Pennsylvania Electric Company

[Docket No. ER00-3567-000]

Take notice that on August 31, 2000, Pennsylvania Electric Company (doing business as GPU Energy), tendered for filing a revised Attachment H-6A of the PJM Open Access Transmission Tariff, correcting a typographical error contained in Attachment H-6A as originally filed and accepted.

Comment date: September 21, 2000, in accordance with Standard Paragraph E at the end of this notice.

9. Allegheny Energy Service Corporation, on behalf of Allegheny Energy Supply Company, LLC (AE Supply)

[Docket No. ER00-3568-000]

Take notice that on August 31, 2000, Allegheny Energy Service Corporation on behalf of Allegheny Energy Supply Company, LLC (AE Supply), tendered for filing a Service Agreement with The Potomac Edison Company d/b/a Allegheny Power in order for Allegheny Power to supply service to its Potomac Edison West Virginia retail customers.

AE Supply has requested a waiver of notice to make the Service Agreement effective on August 1, 2000.

Copies of the filing have been provided to the customer and to the West Virginia Public Service Commission.

Comment date: September 21, 2000, in accordance with Standard Paragraph E at the end of this notice.

10. Tucson Electric Power Company

[Docket No. ER00-3569-000]

Take notice that on August 31, 2000, Tucson Electric Power Company (Tucson), tendered for filing four (4) umbrella service agreements (for short-term firm service) and four (4) service agreements (for non-firm service) pursuant to Part II of Tucson's Open Access Transmission Tariff, which was filed in Docket No. ER00-771-000.

The details of the service agreements are as follows:

(1) Umbrella Agreement for Short-Term Firm Point-to-Point Transmission Service dated as of August 16, 2000 by and between Tucson Electric Power Company and Constellation Power Source, Inc.—FERC Electric Tariff Vol. No. 2, Service Agreement No. 120. No service has commenced at this time.

(2) Form of Service Agreement for Non-Firm Point-to Point Transmission Service dated as of August 16, 2000 by and between Tucson Electric Power Company and Constellation Power Source, Inc.—FERC Electric Tariff Vol. No. 2, Service Agreement No. 121. No service has commenced at this time.

(3) Umbrella Agreement for Short-Term Firm Point-to-Point Transmission Service dated as of August 16, 2000 by and between Tucson Electric Power Company and PG&E Energy Trading—FERC Electric Tariff Vol. No. 2, Service Agreement No. 122. No service has commenced at this time.

(4) Form of Service Agreement for Non-Firm Point-to Point Transmission Service dated as of August 16, 2000 by and between Tucson Electric Power Company and PG&E Energy Trading—FERC Electric Tariff Vol. No. 2, Service Agreement No. 123. No service has commenced at this time.

(5) Umbrella Agreement for Short-Term Firm Point-to-Point Transmission Service dated as of August 16, 2000 by and between Tucson Electric Power Company and TransAlta Energy Marketing (U.S.) Inc.—FERC Electric Tariff Vol. No. 2, Service Agreement No. 128. No service has commenced at this time.

(6) Form of Service Agreement for Non-Firm Point-to Point Transmission Service dated as of August 16, 2000 by and between Tucson Electric Power Company and TransAlta Energy Marketing (U.S.) Inc.—FERC Electric Tariff Vol. No. 2, Service Agreement No. 129. No service has commenced at this time.

(7) Umbrella Agreement for Short-Term Firm Point-to-Point Transmission Service dated as of August 16, 2000 by and between Tucson Electric Power Company and PacifiCorp Power Marketing.—FERC Electric Tariff Vol. No. 2, Service Agreement No. 134. No service has commenced at this time.

(8) Form of Service Agreement for Non-Firm Point-to Point Transmission Service dated as of August 16, 2000 by and between Tucson Electric Power Company and PacifiCorp Power Marketing—FERC Electric Tariff Vol. No. 2, Service Agreement No. 135. No service has commenced at this time.

Comment date: September 21, 2000, in accordance with Standard Paragraph E at the end of this notice.

11. Southwest Power Pool, Inc.

[Docket No. ER00-3572-000]

Take notice that on August 31, 2000, Southwest Power Pool, Inc. (SPP), tendered for filing an executed service agreement for Firm Point-to-Point Transmission Service with the Southwestern Power Administration (Transmission Customer).

SPP seeks an effective date of September 1, 2000, for this service agreement.

Copies of this filing were served on the Transmission Customer.

Comment date: September 21, 2000, in accordance with Standard Paragraph E at the end of this notice.

12. MidAmerican Energy Company

[Docket No. ER00-3573-000]

Take notice that on August 31, 2000, MidAmerican Energy Company (MidAmerican), 666 Grand Avenue, 2900 Ruan Center, Des Moines, Iowa 50309 tendered for filing proposed changes to its Open Access Transmission Tariff (OATT). The changes are for the purpose of complying with Ordering Paragraph (B) of the Commission's August 1, 2000 Order Accepting for Filing Tariff Amendments in Mid-Continent Area Power Pool, 92 FERC ¶ 61,138 (2000).

MidAmerican proposes that the rate schedule changes become effective on May 1, 2000 as directed by the Commission in Mid-Continent Area Power Pool, 91 FERC ¶ 61,184 (2000).

The proposed rate schedule changes have been mailed to all Transmission Customers having service agreements under the OATT, the Iowa Utilities Board and the Illinois Commission, the South Dakota Public Service Commission.

Comment date: September 21, 2000, in accordance with Standard Paragraph E at the end of this notice.

13. PacifiCorp

[Docket No. ER00-3574-000]

Take notice that on August 31, 2000, PacifiCorp, tendered for filing in accordance with 18 CFR 35 of the Commission's Rules and Regulations, a Network Integration Transmission Service Agreement with the Western Area Power Administration, Rocky Mountain Region (WAPA-RM) under PacifiCorp's FERC Electric Tariff, Second Revised Volume No. 11 (Tariff).

Copies of this filing were supplied to the Washington Utilities and Transportation Commission and the Public Utility Commission of Oregon.

Comment date: September 21, 2000, in accordance with Standard Paragraph E at the end of this notice.

14. MidAmerican Energy Company

[Docket No. ER00-3575-000]

Take notice that on August 31, 2000, MidAmerican Energy Company (MidAmerican), tendered for filing with the Commission notice of cancellation pursuant to Section 35.15 of the Commission's Regulations.

MidAmerican requests that the following rate schedule be canceled effective as of 11:59 p.m. on September 30, 2000:

1. Participation Power Interchange Service Peaking Capacity Sales Agreement dated June 6, 1991, between Iowa Public Service Company (a predecessor company of MidAmerican) and Corn Belt Power Cooperative. This Agreement has been designated as MidAmerican Rate Schedule No. 88.

MidAmerican requests a waiver of Section 35.15 to the extent that this Notice of Cancellation has not been filed within the time required by such section as no party shall be harmed or prejudiced by such delay in filing. MidAmerican inadvertently failed to submit the Notice of Cancellation 60 days prior to expiration of the agreement under its own terms.

MidAmerican has mailed a copy of this filing to Corn Belt, the Iowa Utilities Board, the Illinois Commerce Commission and the South Dakota Public Utilities commission.

Comment date: September 21, 2000, in accordance with Standard Paragraph E at the end of this notice.

15. PJM Interconnection, L.L.C.

[Docket No. ER00-3576-000]

Notice of Filing. Take notice that on August 31, 2000, PJM Interconnection, L.L.C. (PJM), tendered for filing ten executed interconnection service agreements between PJM and FPL Energy MH50, L.P., Green Knight Economic Development Corporation, PEI Power Corporation, Pennsylvania Electric Company d/b/a GPU Energy, Pennsylvania Windfarms, Inc., PPL Brunner Island, LLC, PPL Holtwood, LLC, PPL Martins Creek, LLC, PPL Montour, LLC, and Public Service Enterprise Group Incorporated.

PJM requests a waiver of the Commission's 60-day notice requirement to permit the effective dates agreed to by the parties.

Copies of this filing were served upon each of the parties to the agreements the state regulatory commissions within the PJM control area.

Comment date: September 21, 2000, in accordance with Standard Paragraph E at the end of this notice.

16. New England Power Pool

[Docket No. ER00-3577-000]

Take notice that on August 31, 2000, the New England Power Pool (NEPOOL), tendered for filing the Sixty-Fourth Agreement Amending New England Power Pool Agreement which proposes the elimination of In Service.

A November 1, 2000 effective date has been requested.

NEPOOL states that copies of these materials were sent to the New England state governors and regulatory commissions and the NEPOOL Participants.

Comment date: September 21, 2000, in accordance with Standard Paragraph E at the end of this notice.

17. Montana-Dakota Utilities Co., A Division of MDU Resources Group, Inc.

[Docket No. ER00-3578-000]

Take notice that on August 31, 2000, Montana-Dakota Utilities Co., a Division of MDU Resources Group, Inc. (Montana-Dakota), tendered for filing a letter notifying the Federal Energy Regulatory Commission that the Montana-Dakota open access transmission tariff has been modified, effective August 1, 2000, to include the revised Mid-Continent Area Power Pool (MAPP) Line Loading Relief (LLR) procedures that incorporate the North American Electric Reliability Councils transmission loading relief procedures for initial curtailments of non-firm transmission service approved in Docket No. ER99-2649-001, et al.

Comment date: September 21, 2000, in accordance with Standard Paragraph E at the end of this notice.

18. Ameren Services Company

[Docket No. ER00-3579-000]

Take notice that on August 31, 2000, Ameren Services Company (Ameren Services), tendered for filing a Retail Network Operating Agreement and a Service Agreement for Network Integration Transmission Service between Ameren Services and AmerenCIPS. Ameren Services asserts that the purpose of the Agreements is to permit Ameren Services to provide transmission service to AmerenCIPS pursuant to Ameren's Open Access Tariff.

Comment date: September 21, 2000, in accordance with Standard Paragraph E at the end of this notice.

19. Mid-Continent Area Power Pool

[Docket No. ER00-3598-000]

Take notice that on August 30, 2000, Northern States Power Company (Minnesota) and Northern States Power Company (Wisconsin) tendered for filing a status report in conjunction with the Commission's Order at 92 FERC ¶ 61,138 (2000).

Comment date: September 20, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

Linwood A. Watson, Jr.
Acting Secretary.

[FR Doc. 00-23593 Filed 9-13-00; 8:45 am]

BILLING CODE 6717-01-P